DEPARTMENT OF COMMERCE

National Oceanic and Atmospheric Administration

[I.D. 092904B]

Gulf of Mexico Fishery Management Council; Scoping Hearings

AGENCY: National Marine Fisheries Service (NMFS), National Oceanic and Atmospheric Administration (NOAA), Commerce.

ACTION: Notice of public hearings; request for comments.

SUMMARY: The Gulf of Mexico Fishery Management Council (Council) will hold nine public hearings to inform the public and obtain comments on drafts of Amendment 15 to the Coastal Migratory Pelagics Fishery Management Plan (FMP) and Amendment 24 to the Reef Fish FMP.

DATES: The meetings will be held in October 2004. See SUPPLEMENTARY INFORMATION for specific dates, locations, and times. Written public comments must be received by the Council on or before November 5, 2004.

ADDRESSES: See SUPPLEMENTARY INFORMATION for specific dates, locations, and times.

Written comments should be sent to the Gulf of Mexico Fishery Management Council, 3018 North U.S. Highway 301, Suite 1000, Tampa, FL 33619. Comments may also be submitted via e-mail to gulfcouncil@gulfcouncil.org.

Copies of the draft amendments are available by contacting the Gulf of Mexico Fishery Management Council at the mailing address or e-mail address specified above.

FOR FURTHER INFORMATION CONTACT: Rick Leard, Deputy Executive Director, Gulf of Mexico Fishery Management Council; telephone: 813-228-2815.

SUPPLEMENTARY INFORMATION: The Council will hold nine public hearings to solicit public input on drafts of Amendment 15 to the Coastal Migratory Pelagics FMP and Amendment 24 to the Reef Fish FMP (see ADDRESSES for information on obtaining these draft amendments). Each of these draft amendments contain alternatives to: (1) allow the existing commercial permit moratoria to expire, (2) extend the moratoria for an additional 5 or 10 years, or (3) replace the moratoria with permanent limited access systems that would, in essence, maintain the cap on the number of permits indefinitely, or until replaced or eliminated by additional actions by the Council. The Council is soliciting public comment on these alternatives and on other alternatives not currently included in the draft amendments. The Council is soliciting public comment on these issues through public hearings, by mail, and by e-mail.

Public hearings will be held at the following dates and locations beginning at 7 p.m. and concluding no later than 10 p.m.:

1. Monday, October 18, 2004, Brownsville Events Center, 1 Events Center Boulevard, Brownsville, TX 78526; telephone: 956-554-0700;

2. Tuesday, October 19, 2004, Port Aransas Community Center, 408 North Allister, Port Aransas, TX 78373; telephone: 361-749-4111;

3. Tuesday, October 19, 2004, DoubleTree Grand Key Resort, 3990 S. Roosevelt Boulevard, Key West, FL 33040; telephone: 888-310-1540 (joint public hearing with the South Atlantic Fishery Management Council);

4. Wednesday, October 20, 2004, San Luis Resort,

5222 Seawall Boulevard, Galveston Island, TX 77651; telephone: 409-744-1500;

5. Thursday, October 21, 2004, Grand Isle Community Center, 3811 Highway 1, Grand Isle, LA 70358; telephone: 985-787-3196;

6. Monday, October 25, 2004, National Marine Fisheries Service, 3500 Delwood Beach Road, Panama City, FL 32408; telephone: 850-234-6541;

7. Tuesday, October 26, 2004, Riverview Plaza Hotel, 64 South Water Street, Mobile, AL 36602; telephone: 251-415-3068;

8. Wednesday, October 27, 2004, Palace Casino Resort, 158 Howard Avenue, Biloxi, MS 39530; telephone: 800-725-2239; and

9. Thursday, October 28, 2004, Madeira Beach City Hall, 300 Municipal Drive, Madeira Beach, FL 33708; telephone: 727-391-9951.

These hearings will be open to the public and physically accessible to people with disabilities. Requests for sign language interpretation or other auxiliary aids should be directed to the Council office (see ADDRESSES) by October 12, 2004.

Dated: September 30, 2004.
Alan D. Risenhoover,
Acting Director, Office of Sustainable Fisheries, National Marine Fisheries Service.

[FR Doc. 04-22597 Filed 10-6-04; 8:45 am]

BILLING CODE 3510-22-S